DEPARTMENT OF LABOR

Mine Safety and Health Administration

[OMB Control No. 1219-0146]

Proposed Extension of Information Collection; Refuge Alternatives for Underground Coal Mines

AGENCY: Mine Safety and Health Administration, Labor.

ACTION: Request for public comments.

SUMMARY: The Department of Labor, as part of its continuing effort to reduce paperwork and respondent burden, conducts a pre-clearance consultation program to provide the general public and Federal agencies with an opportunity to comment on proposed collections of information in accordance with the Paperwork Reduction Act of 1995, 44 U.S.C. 3506(c)(2)(A). This program helps to assure that requested data can be provided in the desired format, reporting burden (time and financial resources) is minimized, collection instruments are clearly understood, and the impact of collection requirements on respondents can be properly assessed. Currently, the Mine Safety and Health Administration (MSHA) is soliciting comments on the information collection for Refuge Alternatives for Underground Coal Mines.

DATES: All comments must be received on or before July 27, 2015.

ADDRESSES: Comments concerning the information collection requirements of this notice may be sent by any of the methods listed below.

• Federal E-Rulemaking Portal: http://www.regulations.gov. Follow the on-line instructions for submitting comments for docket number MSHA-2015-0012.

• Regular Mail: Send comments to MSHA, Office of Standards, Regulations, and Variances, 1100 Wilson Boulevard, Room 2350, Arlington, VA 22209-3939.

• Hand Delivery: USDOL—Mine Safety and Health Administration, 201 12th Street S., Suite 400, Arlington, VA 22202-5452. Sign in at the receptionist's desk on the 4th floor via the East elevator bank.

FOR FURTHER INFORMATION CONTACT: Sheila McConnell, Acting Director, Office of Standards, Regulations, and Variances, MSHA, at MSHA.information.collections@dol.gov (email); 202-693-9440 (voice); or 202-693-9441 (facsimile).

SUPPLEMENTARY INFORMATION:

I. Background

Each underground coal mine has an emergency response plan (ERP) and refuge alternative(s) (RA) that protect miners when escape from a mine during a mine emergency is not possible by providing secure spaces with isolated atmospheres that create life-sustaining environments.

Title 30 CFR 75.1506 requires mine operators to provide refuge alternatives.

Section 75.1507 requires the development and implementation of emergency response plans. It requires that the ERP provide detailed information about the RAs used in the mine. This information assists miners, supervisors, emergency responders, and MSHA in assuring that all essential preparations are made and required materials are readily available and in working order. A mine operator may notify the District Manager and update the existing ERP if there is a need to locate a RA in a different location than the one identified in the ERP for that mine (as required by section 75.1506(c)(2)).

Section 75.1508 requires the mine operator to certify that persons assigned to examine, maintain, and repair RAs and components are trained for those tasks. Training certifications assist MSHA in determining that persons received the required training. The training certification for persons assigned to examine RAs is integrated into existing requirements for preshift examinations of the mine under section 75.360 (OMB 1219-0088). The training certification for persons assigned to maintain and repair RAs is included in this package under section 75.1508(a).

Section 75.1508(b) requires a record of any maintenance and repair performed on a refuge alternative. This record assists MSHA in identifying design flaws or other weaknesses in the refuge alternative or its components that could adversely impact the safety of miners.

II. Desired Focus of Comments

MSHA is soliciting comments concerning the proposed information collection related to Refuge Alternatives for Underground Coal Mines. MSHA is particularly interested in comments that:

• Evaluate whether the collection of information is necessary for the proper performance of the functions of the agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on MSHA's Web site and on http://www.regulations.gov. MSHA cautions the commenter against providing any information in the submission that should not be publicly disclosed. Full comments, including personal information provided, will be made available on www.regulations.gov and www.reginfo.gov.

The public may also examine publicly available documents at MSHA, 1100 Wilson Boulevard, Room 2350, Arlington, VA. Sign in at the receptionist's desk on the 21st floor.

Questions about the information collection requirements may be directed to the person listed in the FOR FURTHER INFORMATION CONTACT section of this notice.

III. Current Actions

This request for collection of information contains provisions for Refuge Alternatives for Underground Coal Mines. MSHA has updated the data with respect to the number of respondents, responses, burden hours, and burden costs supporting this information collection request.

Type of Review: Extension, without change, of a currently approved collection.

Agency: Mine Safety and Health Administration.

OMB Number: 1219-0146.

Affected Public: Business or other for-profit.

Number of Respondents: 16.

Frequency: On occasion.

Number of Responses: 49.

Annual Burden Hours: 219 hours.

Annual Respondent or Recordkeeper Cost: $50.40.

Comments submitted in response to this notice will be summarized and included in the request for Office of Management and Budget approval of the information collection request; they will also become a matter of public record.

Dated: May 21, 2015.
Sheila McConnell,
Certifying Officer.

[FR Doc. 2015-12840 Filed 5-27-15; 8:45 am]

BILLING CODE 4510-43-P